DEPARTMENT OF HEALTH AND HUMAN SERVICES

National Committee on Vital and Health Statistics: Teleconference

Pursuant to the Federal Advisory Committee Act, the Department of Health and Human Services (HHS) announces the following advisory committee meeting.

Name: National Committee on Vital and Health Statistics (NCVHS) Full Committee Teleconference.

Time and Date:November 7, 2014; 10:00 a.m.-11:00 a.m. EST.

Place: Teleconference—scheduled to begin at 10:00 a.m. Eastern Standard Time. To participate in the teleconference, please use the following url http://www.ncvhs.hhs.gov/ to take you to the NCVHS homepage where registration information and the link to join the call will be available.

Status: Open, however teleconference access limited only by availability of telephone ports. There will be a public comment period during the final 15 minutes of the teleconference.

Purpose: The purpose of this teleconference of the full committee of the NCVHS is to discuss and vote for approval the NCVHS Privacy, Confidentiality & Security Subcommittee Community Data User Toolkit.

Contact Person for More Information: Debbie M. Jackson, Interim Executive Secretary, NCVHS, National Center for Health Statistics, Centers for Disease Control and Prevention, 3311 Toledo Road, Room 2402, Hyattsville, Maryland 20782, telephone (301) 458-4614.

Program information as well as summaries of meetings and a roster of committee members are available on the NCVHS home page of the HHS Web site: http://www.ncvhs.hhs.gov/, where further information including an agenda will be posted when available.

Dated: October 23, 2014.
James Scanlon,
Deputy Assistant Secretary for Planning and Evaluation, (Science and Data Policy), Office of the Assistant Secretary for Planning and Evaluation.

[FR Doc. 2014-25689 Filed 10-28-14; 8:45 am]

BILLING CODE 4151-05-P